DEPARTMENT OF COMMERCE

Foreign-Trade Zones Board

[Docket 38-2004]

Foreign-Trade Zone 15—Kansas City, MO; Application for Subzone; Midwest Quality Gloves, Inc. (Distribution of Gloves, Raingear, Footwear, and Garden Accessories); Chillicothe and Hamilton, MO

An application has been submitted to the Foreign-Trade Zones Board (the Board) by the Greater Kansas City Foreign-Trade Zone, Inc., grantee of FTZ 15, requesting special-purpose subzone status for the warehousing and distribution facilities of Midwest Quality Gloves, Inc. (Midwest Quality Gloves), located in Chillicothe and Hamilton, Missouri. The application was submitted pursuant to the provisions of the Foreign-Trade Zones Act, as amended (19 U.S.C. 81a-81u), and the regulations of the Board (15 CFR part 400). It was formally filed on August 24, 2004.

The Midwest Quality Gloves facilities (140 employees) consist of three sites on 12 acres: Site 1 (4 acres) is located at 835 Industrial Road, Chillicothe, Livingston County; Site 2 (3 acres) is located at 600 Brunswick Road, Chillicothe, Livingston County; and Site 3 (5.4 acres) is located at 101 North Frame Street, Hamilton, Caldwell County. The facilities are used for the storage, distribution, and kitting of imported gloves, raingear, footwear, and garden accessories.

Zone procedures would exempt Midwest Quality Gloves from Customs duty payments on products that are re-exported. Some 5 percent of the products are re-exported. On its domestic sales, the company would be able to defer duty payments until merchandise is shipped from the plant and entered for consumption. FTZ designation would further allow Midwest Quality Gloves to utilize certain Customs procedures resulting in increased efficiencies for its logistics and distribution operations. The company is not requesting authority for processing activity and has indicated that components used in kitting operations will be admitted to the subzone in privileged foreign status. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is November 1, 2004. Rebuttal comments in response to material submitted during the foregoing period may be submitted during the subsequent 15-day period (to November 15, 2004).

A copy of the application and accompanying exhibits will be available for public inspection at the Office of the Foreign-Trade Zones Board's Executive Secretary at the first address listed above, and at the U.S. Department of Commerce Export Assistance Center, 2345 Grand Boulevard, Suite 650, Kansas City, MO 64108.

Dated: August 24, 2004.
Dennis Puccinelli,
Executive Secretary.

[FR Doc. 04-19892 Filed 8-31-04; 8:45 am]

BILLING CODE 3510-DS-P